NATIONAL AERONAUTICS AND SPACE ADMINISTRATION

[NOTICE: (23-104)]

Privacy Act of 1974; System of Records

AGENCY: National Aeronautics and Space Administration (NASA).

ACTION: Notice of a modified system of records.

SUMMARY: Pursuant to the provisions of the Privacy Act of 1974, the National Aeronautics and Space Administration is issuing public notice of its proposal to modify a previously noticed system of records NASA Health Information Management System/NASA 10HIMS. Modifications are described below under the caption SUPPLEMENTARY INFORMATION.

DATES: Submit comments within 30 calendar days from the date of this publication. The changes will take effect at the end of that period, if no adverse comments are received.

ADDRESSES: Bill Edwards-Bodmer, Privacy Act Officer, Office of the Chief Information Officer, National Aeronautics and Space Administration Headquarters, Washington, DC 20546-0001, (757) 864-7998, NASA-PAOfficer@nasa.gov.

FOR FURTHER INFORMATION CONTACT: NASA Privacy Act Officer, Bill Edwards-Bodmer, (757) 864-7998, NASA-PAOfficer@nasa.gov.

SUPPLEMENTARY INFORMATION: This notice incorporates revised NASA Standard Routine Uses, removes two electronic system locations, and includes minor editorial changes.

William Edwards-Bodmer,
NASA Privacy Act Officer.

SYSTEM NAME AND NUMBER:

Health Information Management System, NASA 10HIMS.

SECURITY CLASSIFICATION:

Unclassified.

SYSTEM LOCATION:

Records of Medical Clinics/Units and Environmental Health Offices are maintained at:

• Mary W. Jackson NASA Headquarters, National Aeronautics and Space Administration (NASA), Washington, DC 20546-0001

• Ames Research Center (NASA), Moffett Field, CA 94035-1000

• Armstrong Flight Research Center (NASA), PO Box 273, Edwards, CA 93523-0273

• John H. Glenn Research Center at Lewis Field (NASA), 21000 Brookpark Road, Cleveland, OH 44135-3191

• Goddard Space Flight Center (NASA), Greenbelt, MD 20771-0001

• Lyndon B. Johnson Space Center (NASA), Houston, TX 77058-3696

• John F. Kennedy Space Center (NASA), Kennedy Space Center, FL 32899-0001

• Langley Research Center, (NASA), Hampton, VA 23681-2199

• George C. Marshall Space Flight Center (NASA), Marshall Space Flight Center, AL 35812-0001

• John C. Stennis Space Center (NASA), Stennis Space Center, MS 39529-6000

• Michoud Assembly Facility (NASA), PO Box 29300, New Orleans, LA 70189

• Wallops Flight Facility (NASA), Wallops Island, VA 23337

Electronic records are also hosted at:

• CORITY Amazon Web Services (AWS) US East region, 410 Terry Avenue North, Seattle, WA 98109

SYSTEM AND SUBSYSTEM MANAGER(S):

Chief Health and Medical Officer at NASA Headquarters (see System Location above for address).

Subsystem Managers:

• Director Health and Medical Systems, Occupational Health at NASA Headquarters (see System Location above for address);

• Chief, Space Medicine Division at NASA Johnson Space Center (see System Location above for address);

• Occupational Health Contracting Officer Representatives at NASA Ames Research Center, (see System Location above for address);

• NASA Armstrong Flight Research Center (see System Location above for address);

• NASA Goddard Space Flight Center (see System Location above for address);

• NASA Kennedy Space Center (see System Location above for address);

• NASA Langley Research Center (see System Location above for address);

• NASA Glenn Research Center (see System Location above for address);

• NASA Marshall Space Flight Center (see System Location above for address);

• NASA Jet Propulsion Laboratory (see System Location above for address);

• NASA Stennis Space Center (see System Location above for address);

• Michoud Assembly Facility (NASA) (see System Location above for address); and

• Wallops Flight Facility (NASA) (see System Location above for address).

AUTHORITY FOR MAINTENANCE OF THE SYSTEM:

• 5 U.S.C. 7901—Health service programs;

• 51 U.S.C. 20113 (a)—Powers of the Administration in performance of functions to make and promulgate rules and regulations;

• 44 U.S.C. 3101—Records management by agency heads; general duties;

• 42 CFR part 2—Confidentiality of substance use disorder patient records.

PURPOSE(S) OF THE SYSTEM:

In order to ensure a healthy environment and workforce, information in this system of records is maintained on anyone receiving (1) exams for general wellness, (2) occupational clearances or determination of fitness for duty, (3) behavioral health assistance, (4) workplace surveillance for potential human exposure within NASA to communicable diseases and hazards such as noise and chemical exposure, repetitive motion, and (5) first aid or medical care for onsite illness or injuries through a NASA clinic outreach.

CATEGORIES OF INDIVIDUALS COVERED BY THE SYSTEM:

This system contains information on (1) NASA employees and applicants; (2) employees from other agencies and military detailees working at NASA; (3) active or retired astronauts and active astronaut family members; (4) other space flight personnel on temporary or extended duty at NASA; (5) contractor personnel; (6) Space Flight Participants and those engaged in commercial use of NASA facilities, (7) civil service and contractor family members; and (8) visitors to NASA Centers who use clinics or ambulance services for emergency or first-aid treatment.

CATEGORIES OF RECORDS IN THE SYSTEM:

Records in this system contain demographic data and private health information:

(1) Wellness records including but not limited to exams provided for continuing healthcare, documentation of immunizations and other outreach records.

(2) Fitness for duty and/or exposure exams/surveillance including but not limited to ergonomics, hazardous materials, radiation, noise, communicable diseases and other applicable longitudinal surveillance.

(3) Qualification records including the use of offsite or onsite exams to determine suitability for duties.

(4) Behavioral health and employee assistance records.

(5) Records of first aid, contingency response, or emergency care, including ambulance transportation.

RECORD SOURCE CATEGORIES:

The information in this system of records is obtained from individuals themselves, physicians, and previous medical records of individuals.

ROUTINE USES OF RECORDS MAINTAINED IN THE SYSTEM, INCLUDING CATEGORIES OF USERS AND THE PURPOSES OF SUCH USES:

Any disclosures of information will be compatible with the purpose for which the Agency collected the information. Under the following routine uses that are unique to this system of records, information in this system may be disclosed: (1) to external medical professionals and independent entities to support internal and external reviews for purposes of medical quality assurance; (2) to private or other government health care providers for consultation, referral, or mission medical contingency support; (3) to the Office of Personnel Management, Occupational Safety and Health Administration, and other Federal or State agencies as required in accordance with the Federal agency's special program responsibilities; (4) to insurers for referrals or reimbursement; (5) to employers of non-NASA personnel in support of the Mission Critical Space Systems Personnel Reliability Program; (6) to international partners for mission support and continuity of care for their employees pursuant to NASA Space Act agreements; (7) to non-NASA personnel performing research, studies, or other activities through arrangements or agreements with NASA; (8) to the public of pre-space flight information having mission impact concerning an individual crewmember, limited to the crewmember's name and the fact that a medical condition exists; (9) to the public, limited to the crewmember's name and the fact that a medical condition exists, if a flight crewmember is, for medical reasons, unable to perform a scheduled public event following a space flight mission/landing; and (10) to the public to advise of medical conditions arising from accidents, consistent with NASA regulations.

In addition, information may be disclosed under the following NASA Standard Routine Uses, which are standard for many NASA systems and are compatible with the purpose for which the Agency collected the information:

1. Law Enforcement—When a record on its face, or in conjunction with other information, indicates a violation or potential violation of law, whether civil, criminal or regulatory in nature, and whether arising by general statute or particular program statute, or by regulation, rule, or order, disclosure may be made to the appropriate agency, whether Federal, foreign, State, local, or tribal, or other public authority responsible for enforcing, investigating or prosecuting such violation or charged with enforcing or implementing the statute, or rule, regulation, or order, if NASA determines by careful review that the records or information are both relevant and necessary to any enforcement, regulatory, investigative or prosecutive responsibility of the receiving entity.

2. Certain Disclosures to Other Agencies—A record from this SOR may be disclosed to a Federal, State, or local agency maintaining civil, criminal, or other relevant enforcement information or other pertinent information, such as current licenses, if necessary, to obtain information relevant to a NASA decision concerning the hiring or retention of an employee, the issuance of a security clearance, the letting of a contract, or the issuance of a license, grant, or other benefit.

3. Certain Disclosures to Other Federal Agencies—record from this SOR may be disclosed to a Federal agency, in response to its request, for a matter concerning the hiring or retention of an employee, the issuance of a security clearance, the reporting of an investigation of an employee, the letting of a contract, or the issuance of a license, grant, or other benefit by the requesting agency, to the extent that the information is relevant and necessary to the requesting agency's decision on the matter.

4. Department of Justice—A record from this SOR may be disclosed to the Department of Justice when (a) NASA, or any component thereof; or (b) any employee of NASA in his or her official capacity; or (c) any employee of NASA in his or her individual capacity where the Department of Justice has agreed to represent the employee; or (d) the United States, where NASA determines that litigation is likely to affect NASA or any of its components, is a party to litigation or has an interest in such litigation, and by careful review, the use of such records by the Department of Justice is deemed by NASA to be relevant and necessary to the litigation.

5. Courts—A record from this SOR may be disclosed in an appropriate proceeding before a court, grand jury, or administrative or adjudicative body, when NASA determines that the records are relevant and necessary to the proceeding; or in an appropriate proceeding before an administrative or adjudicative body when the adjudicator determines the records to be relevant and necessary to the proceeding.

6. Response to an Actual or Suspected Compromise or Breach of Personally Identifiable Information—A record from this SOR may be disclosed to appropriate agencies, entities, and persons when (1) NASA suspects or has confirmed that there has been a breach of the system of records; (2) NASA has determined that as a result of the suspected or confirmed breach there is a risk of harm to individuals, NASA (including its information systems, programs, and operations), the Federal Government, or national security; and (3) the disclosure made to such agencies, entities, and persons is reasonably necessary to assist in connection with NASA's efforts to respond to the suspected or confirmed breach or to prevent, minimize, or remedy such harm.

7. Contractors—A record from this SOR may be disclosed to contractors, grantees, experts, consultants, students, volunteers, and others performing or working on a contract, service, grant, cooperative agreement, or other assignment for the Federal Government, when necessary to accomplish a NASA function related to this SOR. Individuals provided information under this routine use are subject to the same Privacy Act requirements and limitations on disclosure as are applicable to NASA employees.

8. Members of Congress—A record from this SOR may be disclosed to a Member of Congress or to a Congressional staff member in response to an inquiry of the Congressional office made at the written request of the constituent about whom the record is maintained.

9. Disclosures to Other Federal Agencies in Response to an Actual or Suspected Compromise or Breach of Personally Identifiable Information—A record from this SOR may be disclosed to another Federal agency or Federal entity, when NASA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

10. National Archives and Records Administration—A record from this SOR may be disclosed as a routine use to the officers and employees of the National Archives and Records Administration (NARA) pursuant to records management inspections being conducted under the authority of 44 U.S.C. 2904 and 2906.

11. Audit—A record from this SOR may be disclosed to another agency, or organization for purpose of performing audit or oversight operations as authorized by law, but only such information as is necessary and relevant to such audit or oversight function.

POLICIES AND PRACTICES FOR STORAGE OF RECORDS:

Records are stored in multiple formats including paper, digital, micrographic, photographic, and as medical recordings such as electrocardiograph tapes, x-rays and strip charts.

POLICIES AND PRACTICES FOR RETRIEVAL OF RECORDS:

Records are retrieved from the system by the individual's name, date of birth, or unique assigned Patient Identification Numbers.

POLICIES AND PRACTICES FOR RETENTION AND DISPOSAL OF RECORDS:

Records are maintained in Agency files and destroyed in accordance with NASA Records Retention Schedule 1, Items 126 and 127, and NASA Records Retention Schedule 8, Item 57.

ADMINISTRATIVE, TECHNICAL, AND PHYSICAL SAFEGUARDS:

Records are maintained on secure servers and protected in accordance with all Federal standards and those established in NASA regulations at 14 CFR 1212.605. Additionally, server and data management environments employ infrastructure encryption technologies both in data transmission and at rest on servers. Electronic messages sent within and outside of the Agency that convey sensitive data are encrypted and transmitted by staff via pre-approved electronic encryption systems as required by NASA policy. Approved security plans are in place for information systems containing the records in accordance with the Federal Information Security Management Act of 2014 (FISMA) and OMB Circular A-130, Management of Federal Information Resources. Only authorized personnel requiring information in the official discharge of their duties are authorized access to records through approved access or authentication methods. Access to electronic records is achieved only from workstations within the NASA Intranet, or remotely via a secure Virtual Private Network (VPN) connection requiring two-factor token authentication using NASA-issued computers or via employee PIV badge authentication from NASA-issued computers. The CORITY AWS Data Center and Salesforce Government Cloud and Disaster Recovery Center maintain documentation and verification of commensurate safeguards in accordance with FISMA, NASA Procedural Requirements (NPR) 2810.1A, and NASA ITS-HBK-2810.02-05. Non-electronic records are secured in locked rooms or files.

RECORD ACCESS PROCEDURES:

In accordance with 14 CFR part 1212, Privacy Act—NASA Regulations, information may be obtained by contacting in person or in writing the system or subsystem manager listed above at the location where the records are created and/or maintained. Requests must contain the identifying data concerning the requester, e.g., first, middle and last name; date of birth; description and time periods of the records desired. NASA Regulations also address contesting contents and appealing initial determinations regarding records access.

CONTESTING RECORD PROCEDURES:

In accordance with 14 CFR part 1212, Privacy Act—NASA Regulations, information may be obtained by contacting in person or in writing the system or subsystem manager listed above at the location where the records are created and/or maintained. Requests must contain the identifying data concerning the requester, e.g., first, middle and last name; date of birth; description and time periods of the records desired. NASA Regulations also address contesting contents and appealing initial determinations regarding records access.

NOTIFICATION PROCEDURES:

In accordance with 14 CFR part 1212, Privacy Act—NASA Regulations, information may be obtained by contacting in person or in writing the system or subsystem manager listed above at the location where the records are created and/or maintained. Requests must contain the identifying data concerning the requester, e.g., first, middle and last name; date of birth; description and time periods of the records desired. NASA Regulations also address contesting contents and appealing initial determinations regarding records access.

EXEMPTIONS PROMULGATED FOR THE SYSTEM:

None.

HISTORY:

2020-27051, 85 FR 79224, pp. 79224-79227.

[FR Doc. 2023-22412 Filed 10-6-23; 8:45 am]

BILLING CODE 7510-13-P